NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-four meetings, by videoconference, of the Humanities Panel, a federal advisory committee, during November 2023. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: November 1, 2023

This video meeting will discuss applications on the topic of U.S. History, for the Public Humanities Project: Exhibitions (Implementation) rant program, submitted to the Division of Public Programs.

2. Date: November 1, 2023

This video meeting will discuss applications for the Humanities Connections Implementation Grants program, submitted to the Division of Education Programs.

3. Date: November 1, 2023

This video meeting will discuss applications on the topic of World History (Pre-Modern), for the Humanities Collections and Reference Resources grant program, submitted to the Division of Preservation and Access.

4. Date: November 2, 2023

This video meeting will discuss applications on the topic of Discussions, for the Humanities Projects: Humanities Discussions Grants program, submitted to the Division of Public Programs.

5. Date: November 2, 2023

This video meeting will discuss applications for the Humanities Connections Planning Grants program, submitted to the Division of Education Programs.

6. Date: November 3, 2023

This video meeting will discuss applications for the Humanities Connections Planning Grants program, submitted to the Division of Education Programs.

7. Date: November 3, 2023

This video meeting will discuss applications on the topic of Military History, for the Media Projects: Production Grants program, submitted to the Division of Public Programs.

8. Date: November 6, 2023

This video meeting will discuss applications on the topic of Podcasts, for the Media Projects: Production Grants program, submitted to the Division of Public Programs.

9. Date: November 6, 2023

This video meeting will discuss applications for the Humanities Connections Planning Grants program, submitted to the Division of Education Program.

10. Date: November 7, 2023

This video meeting will discuss applications for the Humanities Connections Planning Grants program, submitted to the Division of Education Programs.

11. Date: November 7, 2023

This video meeting will discuss applications on the topic of World Studies (Modern), for the Humanities Collections and Reference Resources grant program, submitted to the Division of Preservation and Access.

12. Date: November 8, 2023

This video meeting will discuss applications on the topic of American Studies, for the Humanities Collections and Reference Resources grant program, submitted to the Division of Preservation and Access.

13. Date: November 8, 2023

This video meeting will discuss applications for the Humanities Connections Implementation Grants program, submitted to the Division of Education Programs.

14. Date: November 8, 2023

This video meeting will discuss applications for the Humanities Connections Planning Grants program, submitted to the Division of Education Programs.

15. Date: November 9, 2023

This video meeting will discuss applications on the topic of U.S. History, for the Humanities Collections and Reference Resources grant program, submitted to the Division of Preservation and Access.

16. Date: November 13, 2023

This video meeting will discuss applications for the Humanities Connections Implementation Grants program, submitted to the Division of Education Programs.

17. Date: November 13, 2023

This video meeting will discuss applications on the topic of New World Archaeology, for the Archaeological and Ethnographic Field Research grant program, submitted to the Division of Research Programs.

18. Date: November 14, 2023

This video meeting will discuss applications on the topics of Art and Architectural History, for the Humanities and Reference Resources grant program, submitted to the Division of Preservation and Access.

19. Date: November 20, 2023

This video meeting will discuss applications on the topics of Old World Archaeology and Ethnography, for the Archaeological and Ethnographic Field Research grant program, submitted to the Division of Research Programs.

20. Date: November 21, 2023

This video meeting will discuss applications on the topics of U.S. History Regional, State, and Local, for the Humanities Collections and Reference Resources grant program, submitted to the Division of Preservation and Access.

21. Date: November 27, 2023

This video meeting will discuss applications for the Dynamic Language Infrastructure—Documenting Endangered Languages Fellowships grant program, submitted to the Division of Research Programs.

22. Date: November 27, 2023

This video meeting will discuss applications on the topic of Ethnography, for the Archaeological and Ethnographic Field Research grant program, submitted to the Division of Research Programs.

23. Date: November 29, 2023

This video meeting will discuss applications on the topics of U.S. History Regional, State and Local, for the Humanities Collections and Reference Resources grant program, submitted to the Division of Preservation and Access.

24. Date: November 30, 2023

This video meeting will discuss applications on the topic of Indigenous Studies, for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: October 10, 2023.
Jessica Graves,
Paralegal Specialist, National Endowment for the Humanities.

[FR Doc. 2023-22648 Filed 10-12-23; 8:45 am]

BILLING CODE 7536-01-P